NUCLEAR REGULATORY COMMISSION

[Docket No. 50-219; NRC-2010-0197]

Exelon Generation Company, LLC; Oyster Creek Nuclear Generating Station; Notice of Withdrawal of Application for Amendment to Facility Operating License

The U.S. Nuclear Regulatory Commission (the Commission) has granted the request of Exelon Generation Company, LLC, (Exelon), to withdraw its November 2, 2007, application for amendment to Facility Operating License No. DPR-16 for the Oyster Creek Nuclear Generating Station (Oyster Creek), located in Ocean County, New Jersey.

The proposed amendment would have revised the Technical Specifications to eliminate the requirement for secondary containment integrity under certain conditions during refueling.

The Commission had previously issued a Notice of Consideration of Issuance of Amendment published in the Federal Register on June 3, 2008 (73 FR 31719). However, by letter dated April 21, 2010, the licensee withdrew the proposed change.

For further details with respect to this action, see the application for amendment dated November 2, 2007, associated supplements dated May 5, July 3, September 22, 2008, October 20, November 13, 2009, and the licensee's letter dated April 21, 2010, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland, this 4th day of June 2010.
For the Nuclear Regulatory Commission.
G. Edward Miller,
Project Manager, Plant Licensing Branch I-2, Division of Operating Reactor Licensing, Office of Nuclear Reactor Regulation.

[FR Doc. 2010-14053 Filed 6-10-10; 8:45 am]

BILLING CODE 7590-01-P